DEPARTMENT OF COMMERCE

National Oceanic and Atmospheric Administration

[RTID 0648-XE079]

Marine Mammals; File No. 28080

AGENCY: National Marine Fisheries Service (NMFS), National Oceanic and Atmospheric Administration (NOAA), Commerce.

ACTION: Notice; receipt of application.

SUMMARY: Notice is hereby given that the Oregon Coast Aquarium, 2820 SE Ferry Slip Rd., Newport, Oregon 97365 (Responsible Party: James Burke), has applied in due form for a permit to import up to six Pacific harbor seals (Phoca vitulina richardsi) for public display.

DATES: Written comments must be received on or before August 16, 2024.

ADDRESSES: These documents are available upon written request via email to NMFS.Pr1Comments@noaa.gov.

Written comments on this application should be submitted via email to NMFS.Pr1Comments@noaa.gov. Please include File No. 28080 in the subject line of the email comment.

Those individuals requesting a public hearing should submit a written request via email to NMFS.Pr1Comments@noaa.gov. The request should set forth the specific reasons why a hearing on this application would be appropriate.

FOR FURTHER INFORMATION CONTACT: Jennifer Skidmore or Courtney Smith, Ph.D., (301) 427-8401.

SUPPLEMENTARY INFORMATION: The subject permit is requested under the authority of the Marine Mammal Protection Act of 1972, as amended (MMPA; 16 U.S.C. 1361 et seq.), the regulations governing the taking and importing of marine mammals (50 CFR part 216).

The applicant is proposing to import up to six Pacific harbor seals (two males; four females; life-stages ranging from pup to adult) from the Vancouver Aquarium's Marine Mammal Rescue Center, Vancouver, British Columbia, Canada, for public display purposes at the Oregon Coast Aquarium. In all cases, the seals to be imported will be non-releasable, rehabilitated seals that were found ill and stranded or abandoned within British Columbia, Canada, and deemed non-releasable to the wild. The requested duration of the permit is 5 years.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of the application to the Marine Mammal Commission and its Committee of Scientific Advisors.

Dated: July 10, 2024.
Amy Sloan,
Acting Chief, Permits and Conservation Division, Office of Protected Resources, National Marine Fisheries Service.

[FR Doc. 2024-15698 Filed 7-16-24; 8:45 am]

BILLING CODE 3510-22-P